NATIONAL CREDIT UNION ADMINISTRATION

Office of Small Credit Union Initiatives (OSCUI) Grant Program Access for Credit Unions

AGENCY: National Credit Union Administration (NCUA).

ACTION: Notice of funding opportunity.

SUMMARY: The National Credit Union Administration (NCUA) is issuing a Notice of Funding Opportunity (NOFO) to invite eligible credit unions to submit applications for participation in the OSCUI Grant Program (a.k.a. Community Development Revolving Loan Fund (CDRLF)), subject to funding availability. The OSCUI Grant Program serves as a source of financial support, in the form of technical assistance grants, for credit unions serving predominantly low-income members. It also serves as a source of funding to help low-income designated credit unions (LICUs) respond to emergencies arising in their communities.

Table of Contents

A. Program Description

B. Federal Award Information

C. Eligibility Information

D. Application and Submission Information

E. Application Review Information

F. Federal Award Administration

G. Federal Awarding Agency

H. Other Information

A. Program Description

1. Purpose

The purpose of the OSCUI Grant Program is to assist low-income designated credit unions (LICU) in providing basic financial services to their low-income members to stimulate economic activities in their communities. Through the OSCUI Grant Program, NCUA provides financial support in the form of technical assistance grants to LICUs. These funds help improve and expand the availability of financial services to these members. The OSCUI Grant Program also serves as a source of funding to help LICUs respond to emergencies. The Grant Program consists of Congressional appropriations that are administered by OSCUI, an office of the NCUA.

This grant round will include initiatives ¹ for Digital Services & Security, Leadership Development, Small LICU Capacity, and Underserved Outreach. NCUA will accept applications from credit unions for Digital Services & Security, Leadership Development, and Small LICU Capacity initiatives from July 1 through July 31, 2017.² Applications for the Underserved Outreach initiative will be accepted from July 1 through August 31, 2017. Each grant award may be used for a project intended to support the efforts of credit unions:

¹ Initiatives offered subject to change based on funds availability. See section H.

² Grant round opening and closing is subject to funds availability. See section H.

i. Providing basic financial and related services to residents in their communities; and

ii. Enhancing their capacity to better serve their members and the communities in which they operate.

Information about the OSCUI Grant Program, including more details regarding the 2017 grant round, other funding initiatives, amount of funds available, funding priorities, permissible uses of funds, funding limits, deadlines and other pertinent details, are periodically published in NCUA Letters to Credit Unions, in the OSCUI e-newsletter and on the NCUA Web site at https://www.ncua.gov/services/Pages/small-credit-union-initiatives/grants-loans/grants.aspx.

2. Regulation

Part 705 of NCUA's regulations implements the OSCUI Grant and Loan Program. 12 CFR 705. A revised Part 705 was published on November 25, 2016. 81 FR 85112. Additional requirements are found at 12 CFR 701 and 741. Applicants should review these regulations in addition to this NOFO. Each capitalized term in this NOFO is more fully defined in the regulations and grant guidelines. For the purposes of this NOFO, an Applicant is a Qualifying Credit Union that submits a complete Application to NCUA under the OSCUI Grant Program. NCUA will consider requests for funds consistent with the purpose of the OSCUI Grant Program. 12 CFR 705.1.

B. Federal Award Information

1. How much funding is available?

Subject to the availability of appropriations for Fiscal Years 2016-2017, NCUA anticipates awarding up to $2 million ³ under this NOFO. NCUA reserves the right to: (i) Award more or less than the amount appropriated; (ii) fund, in whole or in part, any, all, or none of the applications submitted in response to this NOFO; and (iii) reallocate funds from the amount that is anticipated to be available under this NOFO to other programs.

³ Subject to appropriation funding.

2. What is the award amount?

There is a different award cap for each grant initiative. NCUA expects to award grants ranging from $1,000 to $25,000.⁴ Specific details are further described in the grant guidelines found on the NCUA Web site.

⁴ Subject to appropriation funding—See section H.

3. What is the award period?

The award period is between 7 and 12 months from the official approval of the grant, depending on the grant initiative and project.

C. Eligibility Information

1. What are the eligibility criteria?

This grant round is open to credit unions that meet the compliance requirements specified in 12 CFR 705.3 and 12 CFR 705.7. A credit union must have a Low-Income Credit Union (LICU) designation, or equivalent in the case of a Qualifying State-chartered Credit Union, in order to participate in the OSCUI Grant and Loan Program. Requirements for obtaining the designation are found at 12 CFR 701.34.

2. What are the cost sharing or matching requirements?

Cost sharing and matching requirements are not required under this announcement.

D. Application and Submission Information

1. Where can I request Application information?

The Application related documents can be found on NCUA's Web site at https://www.ncua.gov/services/Pages/small-credit-union-initiatives/grants-loans/grants.aspx.

2. How do I submit an Application?

Applicants must submit their Application electronically through NCUA's web-based application system CyberGrants at www.cybergrants.com/ncua/applications.

3. What must be included in the Application?

A complete Application will consist of different components for each grant initiative. At a minimum, each grant initiative will require a brief project description (this requirement may be waived for initiatives that NCUA determines to be satisfactory without a project description). Specific details are further described in the grant guidelines.

4. What other requirements do I need to submit an Application?

Applicants must obtain a Data Universal Number System (DUNS) number and be registered in the System for Award Management (SAM) before an Application is considered complete. Additionally, Applications must include a valid and current Employer Identification Number (EIN) issued by the U.S. Internal Revenue Service (IRS). If an Applicant does not fully comply with these requirements, NCUA may deem the Application incomplete and disqualify the Applicant.

Other submission requirements include disclosure agreements and mandatory clauses which are specified in the grant guidelines and web-based application system.

5. What is the DUNS number and how do I obtain it?

The DUNS number is a unique nine-character number used to identify your organization. The federal government uses the DUNS number to track how federal money is allocated.

Applicants can obtain a DUNS number by visiting the Dun & Bradstreet (D&B) Web site or calling 1-866-705-5711 to register or search for a DUNS number. Registering for a DUNS number is FREE.

6. What is the System for Award Management (SAM) and how do I register?

SAM is a web-based, government-wide application that collects, validates, stores, and disseminates business information about the federal government's trading partners in support of the contract awards, grants, and electronic payment processes.

Applicants can register by visiting the SAM Web site. An active SAM account status and CAGE number is required to apply for the OSCUI Grant Program. The SAM registration process is FREE.

7. When is the Application deadline?

The Application will be available beginning July 1 for all initiatives. However, the closing date is different for one initiative. Below is the application window for each initiative. Each initiative will close at 3 p.m. EST on the last day of the application window. Applications must be submitted online in NCUA's web-based application system, CyberGrants, by the deadline in order to be considered. Late Applications will not be considered under any circumstance.

Initiative | Application window
Digital Services and Security | July 1 through July 31, 2017.
Leadership Development
Small LICU Capacity
Underserved Outreach | July 1 through August 31, 2017.

E. Application Review Information

1. Criteria

Each grant initiative consists of unique criteria NCUA will use to evaluate Applications. The criteria is distinct from the eligibility criteria that are addressed before an Application is accepted for review. Specific details about the selection criteria are described further in the grant guidelines.

2. Review and Selection Process

i. Eligibility and Completeness Review: NCUA will review each Application to determine whether it is complete and that the Applicant meets the eligibility criteria described in the Regulations, this NOFO, and the grant guidelines. An incomplete Application or one that does not meet the eligibility criteria will be declined without further consideration.

ii. Substantive Review: After an Applicant is determined eligible and its Application is determined complete, NCUA will conduct a substantive review in accordance with the criteria and procedures described in the Regulations, this NOFO, and the grant guidelines. NCUA reserves the right to contact the Applicant during its review for the purpose of clarifying or confirming information contained in the Application. If so contacted, the Applicant must respond within the time specified by NCUA or NCUA, in its sole discretion, may decline the application without further consideration.

iii. Evaluation and Scoring: The evaluation criteria for each initiative will be more fully described in the grant guidelines.

iv. Input from Examiners: NCUA may not approve an award to a credit union for which it's NCUA regional examining office or State Supervisory Agency (SSA), if applicable, indicates it has safety and soundness concerns. If the NCUA regional office or SSA identifies a safety and soundness concern, OSCUI, in conjunction with the regional office or SSA, will assess whether the condition of the Applicant is adequate to undertake the activities for which funding is requested, and the obligations of the grant and its conditions. NCUA, in its sole discretion, may defer decision on funding an Application until the credit union's safety and soundness conditions improve.

v. Award Selection: NCUA will make its award selections based on a consistent scoring system where each Applicant will receive a ranking position. NCUA will also consider the impact of funding and rank Applications based on the factors listed in the grant guidelines.

3. Anticipated Announcement and Federal Award Dates

Applicants should expect to be notified by NCUA regarding the final determination of the grant application. Please see the periods NCUA anticipates sending out announcements below.

Initiative | Anticipated announcement period
Digital Services and Security | By September 10, 2017.
Leadership Development
Small LICU Capacity
Underserved Outreach | By October 27, 2017.

F. Federal Award Administration Information

1. Notice of Award

NCUA will notify each Applicant of its funding decision by email. In addition, NCUA will publish a press release that includes a list of the successful awardees. Additional instructions for post-award activities will be provided by email and in the reimbursement guidelines.

2. Administration and National Policy Requirements

The specific terms and conditions governing a grant will be established in the grant guidelines for each initiative.

3. Reporting and Reimbursement Requirements

Successful Applicants must submit a reimbursement request in order to receive the awarded funds. The reimbursement requirements are specific to each initiative. In general, the reimbursement request will require evidence of expenses, project related documentation, a summary of project accomplishments and outcomes, and a certification form signed by a credit union official (e.g., CEO, manager, or Board Chairperson) authorized to request the reimbursement and make the certifications. NCUA, in its sole discretion, may modify these requirements. Successful Applicants are required to submit the reimbursement request within the expiration date specified in the approval letter.

G. Agency Contacts

1. Methods of Contact

Further information can be found at: https://www.ncua.gov/services/Pages/small-credit-union-initiatives/grants-loans/grants.aspx. For questions email: National Credit Union Administration, Office of Small Credit Union Initiatives at OSCUIAPPS@ncua.gov.

2. Information Technology Support

People who have visual or mobility impairments that prevent them from using NCUA's Web site should call (703) 518-6610 for guidance (this is not a toll free number).

H. Other Information

1. Program Changes Based on Availability of Funds

The Application open period, grant initiatives, award period, funding amounts, and deadline to submit applications are all subject to the availability of appropriations for Fiscal Year 2017. NCUA will not announce a new NOFO if changes are necessary to the Program elements covered in this announcement. All changes due to the availability of funding will be published on NCUA's Web site at https://www.ncua.gov/services/Pages/small-credit-union-initiatives/grants-loans/grants.aspx.

Authority: 12 U.S.C. 1756, 1757(5)(D), and (7)(I), 1766, 1782, 1784, 1785 and 1786; 12 CFR 705.

By the National Credit Union Administration Board on May 12, 2017.
Gerard Poliquin,
Secretary of the Board.

[FR Doc. 2017-10087 Filed 5-17-17; 8:45 am]

BILLING CODE 7535-01-P